DEPARTMENT OF THE INTERIOR

Information Collection Submission to OMB for Reinstatement Under Paperwork Reduction Act

AGENCY: Bureau of Indian Affairs, Interior.

ACTION: Notice.

SUMMARY: In compliance with the Paperwork Reduction Act of 1995, this notice announces that an information collection request was submitted to the Office of Management and Budget's (OMB) Office of Information and Regulatory Affairs for review and reinstatement. The collection expired during the renewal process.

DATES: Written comments must be received by August 1, 2007.

ADDRESSES: Written comments should be sent to the Office of Management and Budget, Office of Information and Regulatory Affairs, Attention: Desk Officer for Department of the Interior. You may submit comments by facsimile to 202-395-6566 or by e-mail to OIRA_DOCKET@omb.eop.gov.

Send a copy of your comments to Lynn Forcia, Chief, Division of Workforce Development, Office of Indian Energy and Economic Development, 951 Constitution Street, NW., Mail Stop 20-SIB, Washington, DC 20245.

FOR FURTHER INFORMATION CONTACT: Requests for additional information or additional copies of the information collection instructions and the October 18, 2006 Federal Register notice should be directed to Lynn Forcia, Chief, Division of Workforce Development, Assistant Secretary—Indian Affairs, Department of the Interior, 1951 Constitution Avenue, NW., MS-20-SIB, Washington, DC 20245; Telephone 202-219-5270. (This is not a toll-free number).

SUPPLEMENTARY INFORMATION: The information collection for A Reporting System for the Public Law 102-477 Demonstration Project needs renewal. The 60-day notice requesting comments on OMB Control Number 1076-0135, “Public Law 102-477 Reporting,” was published in the Federal Register on October 18, 2006 (71 FR 61505). We have held meetings with both tribal and Federal partners regarding the existing Public Law 102-477 tribal report forms. We have also shared the changes mandated by the government-wide employment and training OMB requirements with Federal partners and tribal representatives.

Abstract: The information collection is needed to document satisfactory compliance with statutory, regulatory and OMB requirements of the various integrated programs. Public Law 102-477 authorizes tribal governments to integrate federally-funded employment, training and related services programs into a single, coordinated, comprehensive service delivery plan. Funding agencies include the Department of the Interior, Department of Labor, and the Department of Health and Human Services. The Bureau of Indian Affairs is statutorily required to serve as the lead agency. Section 11 of this Act requires that the Secretary of the Interior make available a single universal report format which shall be used by a tribal government to report on integrated activities and expenditures undertaken. The Bureau of Indian Affairs shares the information collected from these reports with the Department of Labor and the Department of Health and Human Services.

Method of Collection:

Current Forms: These forms have been developed incorporating comments from the Department of Health and Human Services and the Department of Labor which provide program funds to tribes for portions of Public Law 102-477. The revised forms have also incorporated many of the comments from tribal grantees and other interested parties.

The revised forms include a one page financial form which is a slightly modified SF-269-A (short form). The financial report also now adds one additional financial page at the request of the Department of Health and Human Services, Temporary Assistance for Needy Families (TANF) report. The form is accompanied by four pages of instructions. The additional form and instructions are only to be completed by those tribes receiving TANF funds under Public Law 102-477. A portion of the report is optional as requested by DHHS. Secondly, the revised forms include a revised and expanded program statistical report.

These report forms and narrative are limited but should satisfy the Department of Health and Human Services, Department of Labor and the Department of the Interior. Both the existing and revised forms reduce the burden on tribal governments by consolidating data collection for employment, training, education, child care and related service programs. The reports are due annually. These forms have been developed within a partnership between tribes and representatives of all three Federal agencies to standardize terms and definitions, eliminate duplication and reduce frequency of collection.

Action: Reinstatement.

Collection: OMB Control # 1076-0135, A Reporting System for Pub. L. 102-477 Demonstration Project.

Respondents: Tribes participating in Public Law 102-477 will report annually. Currently there are 51 grantees representing 240 tribes participating in the program.

Burden: The hourly burden for present forms is 58 hours per respondent without TANF; 58 hours × 21 grantees estimated equals 1,218 annual burden hours. If a tribe does include TANF the annual burden hours is 60 hours with an estimated 30 grantees including TANF equals 1,800 annual burden hours. The total estimated annual burden hours for the Pub. L. 102-477 initiative equals 3,018.

Public Comments and Responses:No comments were received to our 60 day notice published in the Federal Register October 18, 2006 (71 FR 61505):

One written comment was received on February 1, 2006 while meeting with tribes. The tribe summarized by stating, we “can find no fault with the current reporting requirements and forms.”

Request for Comments: The Department of the Interior requests your comments on this collection concerning:

(a) The necessity of this information collection for the proper performance of functions of the agency, including whether the information will have practical utility;

(b) The accuracy of the agency's estimate of the burden (hours and cost) of the collection of information, including the validity of the methodology and assumptions used;

(c) Ways we could enhance the quality, utility, and clarity of the information to be collected; and

(d) Ways we could minimize the burden of the collection of the information on the respondents, such as through the use of automated collection techniques or other forms of information technology.

You are reminded that an agency may not request or sponsor a collection of information unless OMB has approved the collection; you are not required to answer a collection of information that is not approved, and you will not be harmed by your refusal.

The Office of Management and Budget has 60 days in which to make a decision on this request for renewal, but may decide after 30 days. Therefore, your comments should arrive by the 30 day comment date to be sure of getting full consideration.

Dated: June 20, 2007.
Carl J. Artman,
Assistant Secretary—Indian Affairs.

[FR Doc. E7-12658 Filed 6-29-07; 8:45 am]

BILLING CODE 4310-XN-P